DEPARTMENT OF LABOR

Employment and Training Administration

[TA-W-37,796]

Invensys Best Power, Necedah, Wisconsin; Notice of Termination of Investigation

Pursuant to section 221 of the Trade Act of 1974, an investigation was initiated on June 19, 2000, in response to a petition which was filed on behalf of workers at Ivensys Best Power, Necedah, Wisconsin. The workers produce power protection equipment.

The petitioner has requested that the petition be withdrawn. Consequently further investigation in this case would serve no purpose, and the investigation has been terminated.

Signed in Washington, D.C. this 29th day of June, 2000.
Edward A. Tomchick,
Program Manager, Office of Trade Adjustment Assistance.

[FR Doc. 00-18364 Filed 7-19-00; 8:45 am]

BILLING CODE 4510-30-M